DEPARTMENT OF TRANSPORTATION

Federal Aviation Administration

14 CFR Part 39

[Docket No. FAA-2012-0809; Directorate Identifier 2011-NM-135-AD; Amendment 39-17361; AD 2013-04-04]

RIN 2120-AA64

Airworthiness Directives; The Boeing Company Airplanes

AGENCY: Federal Aviation Administration (FAA), DOT.

ACTION: Final rule.

SUMMARY: We are superseding an existing airworthiness directive (AD) for certain The Boeing Company Model 757 airplanes equipped with Rolls-Royce RB211-535E engines. That AD currently requires repetitive inspections for signs of damage of the aft hinge fittings and attachment bolts of the thrust reversers, and related investigative and corrective actions if necessary. The existing AD also provides for an optional terminating modification for the repetitive inspections. For certain airplanes, this new AD adds a one-time inspection of the washers installed under the attachment bolts of the aft hinge fittings for correct installation sequence, and reinstallation if necessary. This new AD also adds an option for installing a redesigned aft hinge fitting with the trim already done, instead of trimming an existing or new hinge fitting, which is included in the existing optional terminating modification. This AD was prompted by reports of incorrectly installed washers under the attachment bolts of the aft hinge fittings of the thrust reversers. We are issuing this AD to prevent failure of the attachment bolts and consequent separation of a thrust reverser from the airplane during flight, which could result in structural damage to the airplane.

DATES: This AD is effective May 15, 2013.

The Director of the Federal Register approved the incorporation by reference of certain publications listed in the AD as of May 15, 2013.

The Director of the Federal Register approved the incorporation by reference of certain other publications listed in this AD as of August 6, 2008 (73 FR 37786, July 2, 2008).

ADDRESSES: For service information identified in this AD, contact Boeing Commercial Airplanes, Attention: Data & Services Management, P. O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Nancy Marsh, Aerospace Engineer, Airframe Branch, ANM-120S, FAA, Seattle Aircraft Certification Office, 1601 Lind Avenue SW., Renton, Washington 98057-3356; phone: 425-917-6440; fax: 425-917-6590; email: nancy.marsh@faa.gov.

SUPPLEMENTARY INFORMATION:

Discussion

We issued a notice of proposed rulemaking (NPRM) to amend 14 CFR part 39 to supersede AD 2008-13-20, Amendment 39-15583 (73 FR 37786, July 2, 2008). That AD applies to the specified products. The NPRM published in the Federal Register August 16, 2012 (77 FR 49396). That NPRM proposed to continue to require repetitive inspections for signs of damage of the aft hinge fittings and attachment bolts of the thrust reversers, and related investigative and corrective actions if necessary. That NPRM also proposed to continue to provide for an optional terminating modification for the repetitive inspections. For certain airplanes, that NPRM proposed to add a one-time inspection of the washers installed under the attachment bolts of the aft hinge fittings for correct installation sequence, and reinstallation if necessary. That NPRM also proposed to add an option for installing a redesigned aft hinge fitting with the trim already done, instead of trimming an existing or new hinge fitting, which is included in the existing optional terminating modification.

Comments

We gave the public the opportunity to participate in developing this AD. The following presents the comments received on the proposal (77 FR 49396, August 16, 2012) and the FAA's response to each comment.

Support for the NPRM (77 FR 49396, August 16, 2012)

Boeing concurred with the content of the NPRM (77 FR 49396, August 16, 2012).

FedEx Express stated that it is accomplishing the actions specified in the NPRM (77 FR 49396, August 16, 2012), and determined that its regular maintenance check schedule is not adversely affected by the specified actions.

Request To Address Effects of NPRM (77 FR 49396, August 16, 2012) on Winglets

Aviation Partners Boeing (APB) stated that it has reviewed the NPRM (77 FR 49396, August 16, 2012), and Boeing Special Attention Service Bulletin 757-54-0049, Revision 1, dated September 23, 2009, and Revision 2, dated July 27, 2011; and Boeing Special Attention Service Bulletin 757-54-0050, Revision 1, dated October 7, 2009, and Revision 2, dated July 27, 2011; and has determined that the installation of winglets, per Supplemental Type Certificate (STC) ST01518SE, “does not affect them.”

We infer that APB means the installation of these winglets does not affect accomplishing the NPRM (77 FR 49396, August 16, 2012). We agree with the commenter and have determined that this AD should clarify the procedures to address these APB winglets. We have added a new paragraph (c)(2) to this AD to state that the installation of STC ST01518SE (http://rgl.faa.gov/Regulatory_and_Guidance_Library/rgstc.nsf/0/48E13CDFBBC32CF4862576A4005D308B?OpenDocument&Highlight=st01518se) does not affect the ability to accomplish the actions required by this AD. For airplanes on which STC ST01518SE is installed, a “change in product” alternative method of compliance (AMOC) approval request is not necessary to comply with the requirements of section 39.17 of the Federal Aviation Regulations (14 CFR 39.17). For all other AMOC requests, the operator must request approval according to paragraph (n) of this AD.

Request To Withdraw the NPRM (77 FR 49396, August 16, 2012)

American Airlines (AAL) stated that the existing FAA AD 2008-13-20, Amendment 39-15583 (73 FR 37786, July 2, 2008), is sufficient to correct the unsafe condition identified in the NPRM (77 FR 49396, August 16, 2012). AAL noted that if an operator deviated from the fastener stack-up in Figures 11 and 12 of Boeing Special Attention Service Bulletin 757-54-0049, dated July 16, 2007, it should be dealt with on a case-by-case basis, and not by issuing an industry-wide requirement.

Although AAL did not make a specific request, we infer that it wants the NPRM (77 FR 49396, August 16, 2012) withdrawn. We agree that operators with airplanes on which the subject modification has been done must accomplish a one-time inspection and corrective action because the washers may have been installed backwards. However, we do not agree that improper installation of the washers using the procedures in Boeing Special Attention Service Bulletin 757-54-0049, dated July 16, 2007, should be dealt with on a case-by-case basis.

Improper installation would recreate the unsafe condition, which must be addressed by doing the actions required by this AD. In addition, although the correct part number for the incorrect washer name of “plain washer” is identified in Boeing Special Attention Service Bulletin 757-54-0049, dated July 16, 2007, information for substituting other “plain washers” is also provided by referring to the additional guidance specified in the Boeing 757 Structural Repair Manual. Therefore, we are issuing this AD without further delay, in order to eliminate the identified unsafe condition of incorrectly installed washers under the attachment bolts of the aft hinge fittings of the thrust reversers.

Request To Accomplish Certain Steps in the Service Information Out of Sequence

AAL asked that it be allowed to accomplish certain steps in the referenced service information out of sequence. AAL stated that Boeing Special Attention Service Bulletin 757-54-0049, Revision 2, dated July 27, 2011, removed Note 1 from the Work Instructions, and Note 1 allowed operators to change the sequence of steps for the specified procedures. AAL noted that if it is not allowed to accomplish certain steps out of sequence, it will be prevented from accomplishing the actions in that service bulletin in a timely manner. AAL added that the inspection and modification instructions are straightforward and are fundamental maintenance procedures.

We agree that certain steps in the Work Instructions of Boeing Special Attention Service Bulletin 757-54-0049, Revision 2, dated July 27, 2011, could be accomplished out of sequence; however, certain other steps cannot. We suggest that AAL provide supporting data to Boeing to substantiate that the service information can be revised to permit accomplishing those steps out of sequence when appropriate. AAL may also submit a request for approval of an alternative method of compliance (AMOC), as specified in paragraph (n) of this AD, to use for accomplishing those steps out of sequence. We have not changed the AD in this regard.

Request To Revise Certain Instructions in the NPRM (77 FR 49396, August 16, 2012)

AAL asked that only the work steps critical to correcting the unsafe condition be mandated by the AD. AAL stated that “open and close” are part of typical maintenance that is fundamental to a qualified maintenance facility; therefore, the instructions on how an operator gets to the steps should not be mandated but left to the operator's discretion as the best method to use to address the existing unsafe condition.

We agree that certain steps in the Work Instructions of Boeing Special Attention Service Bulletin 757-54-0049, Revision 2, dated July 27, 2011, may not need to be mandated; however, AAL did not provide supporting data of which steps in particular. We infer that AAL is asking to exclude the instructions mandated for access and close. Therefore, we have changed paragraph (g) of this AD to specify accomplishing Part II of the service information. We have also changed paragraph (l) of this AD to specify accomplishing Part IV of the service information for the inspection, and Part III of the service information for the preventive modification. These changes exclude Parts I and V of the service information which contain the instructions for access and close.

Conclusion

We reviewed the relevant data, considered the comments received, and determined that air safety and the public interest require adopting the AD with the change described previously. We also determined that this change will not increase the economic burden on any operator or increase the scope of the AD.

Costs of Compliance

We estimate that this AD affects 389 airplanes of U.S. registry.

We estimate the following costs to comply with this AD:

Estimated costs
Action | Labor cost | Parts cost | Cost per product | Cost on U.S. operators
Retained inspections in AD 2008-13-20, Amendment 39-15583 (73 FR 37786, July 2, 2008) | 2 work-hours × $85 per hour = $170 per inspection cycle | $0 | $170 per inspection cycle | $66,130 per inspection cycle.
Retained optional modification in AD 2008-13-20, Amendment 39-15583 (73 FR 37786, July 2, 2008), and new optional actions | 61 work-hours × $85 per hour = $5,185 | $5,276 | $10,461 | Up to $4,069,329.
New inspection | 6 work-hours × $85 per hour = $510 | $0 | $510 | Up to $198,390.

We have received no definitive data that would enable us to provide cost estimates for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-13-20, Amendment 39-15583 (73 FR 37786, July 2, 2008), and adding the following new AD:

2013-04-04 The Boeing Company: Amendment 39-17361; Docket No. FAA-2012-0809; Directorate Identifier 2011-NM-135-AD.

(a) Effective Date

This AD is effective May 15, 2013.

(b) Affected ADs

This AD supersedes AD 2008-13-20, Amendment 39-15583 (73 FR 37786, July 2, 2008).

(c) Applicability

(1) This AD applies to The Boeing Company Model 757-200, -200CB, -200PF, and -300 series airplanes; certificated in any category; equipped with Rolls-Royce RB211-535E engines.

(2) Installation of Supplemental Type Certificate (STC) ST01518SE (http://rgl.faa.gov/Regulatory_and_Guidance_Library/rgstc.nsf/0/48E13CDFBBC32CF4862576A4005D308B?OpenDocument&Highlight=st01518se) does not affect the ability to accomplish the actions required by this AD. For airplanes on which STC ST01518SE is installed, a “change in product” alternative method of compliance (AMOC) approval request is not necessary to comply with the requirements of 14 CFR 39.17.

(d) Subject

Joint Aircraft System Component (JASC)/Air Transport Association (ATA) of America Code 54, Nacelles/Pylons.

(e) Unsafe Condition

This AD results from reports of incorrectly installed washers under the attachment bolts of the aft hinge fittings of the thrust reversers. We are issuing this AD to prevent failure of the attachment bolts and consequent separation of a thrust reverser from the airplane during flight, which could result in structural damage to the airplane.

(f) Compliance

Comply with this AD within the compliance times specified, unless already done.

(g) Retained Repetitive Inspections/Investigative and Corrective Actions

This paragraph restates the requirements of paragraph (f) of AD 2008-13-20, Amendment 39-15583 (73 FR 37786, July 2, 2008), with revised service information. At the time specified in paragraph 1.E. “Compliance,” of Boeing Special Attention Service Bulletin 757-54-0049 or 757-54-0050, both dated July 16, 2007, as applicable; except as provided by paragraph (h) of this AD: Do a detailed inspection for signs of damage of the aft hinge fittings and attachment bolts of the thrust reversers by doing all the actions, including all applicable related investigative and corrective actions, as specified in Part II of the Accomplishment Instructions of the applicable service bulletin specified in paragraph (g)(1), (g)(2), or (g)(3); or paragraph (g)(4), (g)(5), or (g)(6) of this AD; as applicable. Do all applicable related investigative and corrective actions at the time specified in paragraph 1.E., “Compliance,” of the applicable service bulletin identified in paragraph (g)(1) or (g)(4) of this AD. As of the effective date of this AD, only the service bulletin specified in paragraph (g)(3) or (g)(6) of this AD, as applicable, may be used to accomplish the actions required by this paragraph. If any damage is found and the service bulletin identified in paragraph (g)(1), (g)(2), (g)(3), (g)(4), (g)(5), or (g)(6) of this AD specifies to contact Boeing for appropriate action: Before further flight, repair using a method approved in accordance with the procedures specified in paragraph (n) of this AD.

(1) Boeing Special Attention Service Bulletin 757-54-0049, dated July 16, 2007.

(2) Boeing Special Attention Service Bulletin 757-54-0049, Revision 1, dated September 23, 2009.

(3) Boeing Special Attention Service Bulletin 757-54-0049, Revision 2, dated July 27, 2011.

(4) Boeing Service Bulletin 757-54-0050, dated July 16, 2007.

(5) Boeing Special Attention Service Bulletin 757-54-0050, Revision 1, dated October 7, 2009.

(6) Boeing Special Attention Service Bulletin 757-54-0050, Revision 2, dated July 27, 2011.

(h) Retained Exception to Service Information

This paragraph restates the requirements of paragraph (g) of AD 2008-13-20, Amendment 39-15583 (73 FR 37786, July 2, 2008). Where Boeing Special Attention Service Bulletin 757-54-0049 or Boeing Service Bulletin 757-54-0050, both dated July 16, 2007; as applicable; specifies compliance times relative to the date on the service bulletin, this AD requires compliance within the specified compliance time after August 6, 2008 (the effective date of AD 2008-13-20).

(i) Retained Optional Terminating Modification

This paragraph restates the actions specified in paragraph (h) of AD 2008-13-20, Amendment 39-15583 (73 FR 37786, July 2, 2008). Accomplishing the preventive modification identified in the service bulletin specified in paragraph (g)(1), (g)(2), or (g)(3); or paragraph (g)(4), (g)(5), or (g)(6) of this AD; as applicable; terminates the repetitive inspections required by paragraph (g) of this AD.

(j) Retained Concurrent Actions

This paragraph restates the requirements of paragraph (i) of AD 2008-13-20, Amendment 39-15583 (73 FR 37786, July 2, 2008). Prior to or concurrently with accomplishing the actions identified in the service bulletin specified in paragraph (g)(1), (g)(2), or (g)(3) of this AD, as applicable, accomplish the replacement specified in Boeing Special Attention Service Bulletin 757-54-0015, Revision 3, dated September 19, 1996.

(k) Retained Credit for Previous Actions

This paragraph restates the provisions of paragraph (j) of AD 2008-13-20, Amendment 39-15583 (73 FR 37786, July 2, 2008). This paragraph provides credit for the actions required by paragraph (j) of this AD, if those actions were performed before August 6, 2008 (the effective date AD 2008-13-20), using Boeing Service Bulletin 757-54-0015, dated February 16, 1989; Revision 1, dated December 20, 1990; or Revision 2, dated April 21, 1994 (which are not incorporated by reference in this AD).

(l) New Requirements of This AD: Inspection of Washer Stack up Sequence/Corrective Action

For Group 1, Configuration 2 airplanes identified in Boeing Special Attention Service Bulletins 757-54-0049 and 757-54-0050, Revision 2, both dated July 27, 2011: Within 3,000 flight cycles after the effective date of this AD, do a detailed inspection of the washers installed under the attachment bolts of the aft hinge fittings for correct installation sequence, in accordance with Part IV of the Accomplishment Instructions of Boeing Special Attention Service Bulletin 757-54-0049 or 757-54-0050, both Revision 2, both dated July 27, 2011, as applicable. If an incorrect installation sequence is found, before further flight, remove and reinstall the washer stack up correctly, in accordance with Part III of the Accomplishment Instructions of Boeing Special Attention Service Bulletin 757-54-0049 or 757-54-0050, Revision 2, both dated July 27, 2011, as applicable.

(m) Credit for Previous Actions

This paragraph provides credit for the actions required by paragraph (l) of this AD, if those actions were performed before the effective date of this AD using Boeing Special Attention Service Bulletin 757-54-0049, Revision 1, dated September 23, 2009; or Boeing Special Attention Service Bulletin 757-54-0050, Revision 1, dated October 7, 2009; as applicable.

(n) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

(4) AMOCs approved previously in accordance with AD 2008-13-20, Amendment 39-15583 (73 FR 37786, July 2, 2008), are approved as AMOCs for the corresponding provisions of this AD.

(o) Related Information

For more information about this AD, contact Nancy Marsh, Aerospace Engineer, Airframe Branch, ANM-120S, FAA, Seattle Aircraft Certification Office, 1601 Lind Avenue SW., Renton, Washington 98057-3356; phone: 425-917-6440; fax: 425-917-6590; email: nancy.marsh@faa.gov.

(p) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved on May 15, 2013.

(i) Boeing Special Attention Service Bulletin 757-54-0049, Revision 2, dated July 27, 2011.

(ii) Boeing Special Attention Service Bulletin 757-54-0049, Revision 1, dated September 23, 2009.

(iii) Boeing Special Attention Service Bulletin 757-54-0050, Revision 2, dated July 27, 2011.

(iv) Boeing Special Attention Service Bulletin 757-54-0050, Revision 1, dated October 7, 2009.

(4) The following service information was approved for IBR on August 6, 2008 (73 FR 37786, July 2, 2008).

(i) Boeing Service Bulletin 757-54-0050, dated July 16, 2007.

(ii) Boeing Special Attention Service Bulletin 757-54-0015, Revision 3, dated September 19, 1996.

(iii) Boeing Special Attention Service Bulletin 757-54-0049, dated July 16, 2007.

(5) For service information identified in this AD, contact Boeing Commercial Airplanes, Attention: Data & Services Management, P. O. Box 3707, MC 2H-65, Seattle, Washington 98124-2207; telephone 206-544-5000, extension 1, fax 206-766-5680; Internet https://www.myboeingfleet.com.

(6) You may view this service information at the FAA, Transport Airplane Directorate, 1601 Lind Avenue SW., Renton, Washington. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on February 8, 2013.
Ali Bahrami,
Manager, Transport Airplane Directorate, Aircraft Certification Service.

[FR Doc. 2013-03903 Filed 4-9-13; 8:45 am]

BILLING CODE 4910-13-P